DEPARTMENT OF HOMELAND SECURITY

Coast Guard

46 CFR Part 28

[Docket No. USCG-2011-0887]

RIN 1625-AB61

Waiver of Citizenship Requirements for Crewmembers on Commercial Fishing Vessels; Correction

AGENCY: Coast Guard, DHS.

ACTION: Notice of proposed rulemaking; correction.

SUMMARY: This document corrects the Regulatory Identification Number (RIN) to a proposed rule published in the Federal Register on August 18, 2011, entitled “Waiver of Citizenship Requirements for Crewmembers on Commercial Fishing Vessels.” This correction provides correct information with regard to the RIN.

FOR FURTHER INFORMATION CONTACT: If you have questions on this proposed rule, call or e-mail Mr. David Belliveau, Office of Vessel Activities (CG-5433), Coast Guard; telephone 202-372-1247, e-mail David.J.Belliveau@uscg.mil.

Correction

In the Federal Register of August 18, 2011, in FR Vol. 76, No. 160, on page 51317, in the first column, correct the RIN to read: RIN 1625-AB61.

Dated: September 14, 2011.
Kathryn G. Sinniger,
Chief, Office of Regulations and Administrative Law.

[FR Doc. 2011-24055 Filed 9-19-11; 8:45 am]

BILLING CODE 9110-04-P